DEPARTMENT OF HEALTH AND HUMAN SERVICES

National Institutes of Health

Center for Scientific Review; Amended Notice of Meeting

Notice is hereby given of a change in the meeting of the Center for Scientific Review Special Emphasis Panel, June 20, 2003, 5 p.m. to June 20, 2003, 5:30 p.m., Four Points Sheraton Hotel, 1201 K Street NW., Washington, DC 20005 which was published in the Federal Register on June 9, 2003, 68 FR 34406-34408.

The meeting will be held on July 28, 2003, from 10 a.m. to 11 a.m., at the National Institutes of Health, 6701 Rockledge Drive, Bethesda, MD 20882. The meeting is closed to the public.

Dated: July 14, 2003.
LaVerne Y. Stringfield,
Director, Office of Federal Advisory Committee Policy.

[FR Doc. 03-18461 Filed 7-18-03; 8:45 am]

BILLING CODE 4140-01-M